DEPARTMENT OF ENERGY

Federal Energy Regulatory Commission

[Project No. 14581-002]

Notice of Application Tendered for Filing With the Commission and Establishing Procedural Schedule for Licensing and Deadline for Submission of Final Amendments; Turlock Irrigation District and Modesto Irrigation District, California

Take notice that the following hydroelectric application has been filed with the Commission and is available for public inspection.

a. Type of Application: Original Major License.

b. Project No.: 14581-002.

c. Date Filed: October 11, 2017.

d. Applicant: Turlock Irrigation District and Modesto Irrigation District, California.

e. Name of Project: La Grange Hydropower Project.

f. Location: The La Grange Project is located on the Tuolumne River in Stanislaus and Tuolumne Counties, California. Portions of the project occupy public lands managed by the Bureau of Land Management.

g. Filed Pursuant to: Federal Power Act, 16 U.S.C. 791(a)-825(r).

h. Applicant Contacts: Steve Boyd, Turlock Irrigation District, 333 East Canal Drive, Turlock, California 95381-0949, (209) 883-8300; and Anna Brathwaite, Modesto Irrigation District, P.O. Box 4060, Modesto, CA 95352, (209) 526-7384.

i. FERC Contact: Jim Hastreiter at (503) 552-2760 or james.hastreiter@ferc.gov.

j. This application is not ready for environmental analysis at this time.

k. The Project Description:

La Grange Dam and Spillway

The primary project feature is La Grange dam, a 310-foot-long, 131-foot-high, masonry arch dam. The un-gated spillway crest of the dam is at elevation 296.5 feet mean sea level (msl). A slide gate in the face of La Grange dam can discharge about 200 cubic feet per second (cfs) to the Tuolumne River.

La Grange Reservoir

La Grange reservoir extends upstream for approximately 11,352.5 feet at a normal water surface elevation of 296.46 feet msl. The surface of the reservoir at the normal surface elevation is over 58 acres and the storage capacity is over 500 acre-feet.

Intakes, Tunnels, Forebay, Canal Headgates, Powerhouse Intake

The Modesto Irrigation District (MID) headworks, canal, and sluice gates are part of MID's retired irrigation canal facilities that currently discharge flow from the reservoir into the Tuolumne River on the right bank about 400 feet downstream of La Grange dam.

The Turlock Irrigation District (TID) intake and tunnel is located on the left bank of the La Grange dam and spillway just upstream of the dam and consists of two separate structures. One structure contains two 8-foot by 11-foot, 10-inch-high control gates driven by electric motor hoists. The second structure is located to the left of the first structure and contains a single 8-foot by 12-foot control gate. Water diverted at the intake control gates is conveyed to a 600-foot-long tunnel leading to the 110-foot-long concrete forebay for the TID non-project Upper Main Canal. Water delivered to TID's irrigation system is regulated at the non-project canal headworks, consisting of six 5-foot-wide by 8-foot-tall slide gates.

Water delivered to the powerhouse is diverted at the west side of the canal through three 7.5-foot-wide by 14-foot-tall concrete intake bays protected by a trashrack structure. Manually operated steel gates are used to regulate the discharge of water through two intakes one leading to a 235-foot long, 5-foot-diameter penstock and the other leading to a 212-foot-long, 7-foot-diameter penstock. Immediately upstream and adjacent to the penstock intakes are two automated 5-foot-high by 4-foot-wide sluice gates that discharge water over a steep rock outcrop to the tailrace channel just upstream of the powerhouse.

Powerhouse

The 72-foot by 29-foot concrete powerhouse is located approximately 0.2 miles downstream of La Grange dam on the left bank of the Tuolumne River. The powerhouse contains two Francis turbine-generator units with a maximum capacity of 4.9 megawatts. One turbine unit has a rated output of 1,650 horsepower (hp) at 140 cfs and 115 feet of net head and the other with a rated output of 4,950 hp at 440 cfs and 115 feet of net head. The powerhouse produces an average annual generation of 19,638 megawatt-hours.

l. Locations of the Application: A copy of the application is available for review at the Commission in the Public Reference Room or may be viewed on the Commission's Web site at http://www.ferc.gov using the eLibrary link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | October 2017.
Filing of recommendations, preliminary terms and conditions, and fishway prescriptions | December 2017.
Commission issues Draft Environmental Impact Statement (EIS) | July 2018.
Comments on Draft EIS | September 2018.
Modified Terms and Conditions | November 2018.
Commission Issues Final EIS | February 2019.

o. Final amendments to the application must be filed with the Commission no later than 30 days from the issuance date of the Notice of Ready for Environmental Analysis.

Dated: October 12, 2017.
Nathaniel J. Davis, Sr.,
Deputy Secretary.

[FR Doc. 2017-22531 Filed 10-17-17; 8:45 am]

BILLING CODE 6717-01-P